DEPARTMENT OF EDUCATION

Notice of Proposed Information Collection Requests

AGENCY: Department of Education.

ACTION: Correction notice.

SUMMARY: On July 22, 2008, a 30-day notice (Vol. 73, Number 141, page 42552) was published for the information collection, Family Educational Rights and Privacy Act (FERPA) Regulatory Requirements. In that notice 1,666,013 responses were provided. This correction notice provides the correct number of responses as 19,958,860. The burden hours remain the same at approximately 1,666,014 hours.

The Acting IC Clearance Official, Regulatory Information Management Services, Office of Management, hereby issues a correction notice as required by the Paperwork Reduction Act of 1995.

Dated: July 25, 2008.
Kate Mullan,
Acting Leader, Information Policy and Standards Team, Regulatory Information Management Services, Office of Management.

[FR Doc. E8-17453 Filed 7-29-08; 8:45 am]

BILLING CODE 4000-01-P